DEPARTMENT OF TRANSPORTATION

Federal Aviation Administration

14 CFR Part 39

[Docket No. FAA-2005-22456; Directorate Identifier 2005-NM-128-AD; Amendment 39-14530; AD 2006-07-03]

RIN 2120-AA64

Airworthiness Directives; Airbus Model A321-100 and -200 Series Airplanes

AGENCY: Federal Aviation Administration (FAA), Department of Transportation (DOT).

ACTION: Final rule.

SUMMARY: The FAA is adopting a new airworthiness directive (AD) for certain Airbus Model A321-100 and -200 series airplanes. This AD requires replacing the crashworthiness pins on the side-stay of the main landing gear (MLG) with new pins having an increased internal notch diameter. This AD results from testing on the side-stay crashworthiness pins on the MLG, which revealed that, in the case of an emergency landing, the crashworthiness pins installed will not ensure a correct MLG collapse. We are issuing this AD to prevent a punctured fuel tank, which could cause damage to the airplane or injury to passengers.

DATES: This AD becomes effective May 4, 2006.

The Director of the Federal Register approved the incorporation by reference of a certain publication listed in the AD as of May 4, 2006.

ADDRESSES: You may examine the AD docket on the Internet at http://dms.dot.gov or in person at the Docket Management Facility, U.S. Department of Transportation, 400 Seventh Street, SW., Nassif Building, room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A321-100 and -200 series airplanes. That NPRM was published in the Federal Register on September 19, 2005 (70 FR 54854). That NPRM proposed to require replacing the crashworthiness pins on the side-stay of the main landing gear (MLG) with new pins having an increased internal notch diameter.

Comments

We provided the public the opportunity to participate in the development of this AD. We have considered the comments received.

Request To Refer to Parts Manufacturer Approval (PMA) Parts

One commenter requests that we change the language in the proposed AD to permit installation of PMA equivalent parts. The commenter notes that it is possible that a new and improved PMA version of the defective original part may already exist in the marketplace. The commenter states that the mandated installation of a certain part number “places the AD in conflict with existing law (FAR 21.303),” which permits the installation of other (PMA) parts.

We infer that the commenter would like the AD to permit installation of any equivalent PMA parts so that it would not be necessary for an operator to request approval of an alternative method of compliance (AMOC) in order to install an “equivalent” PMA part. Whether an alternative part is “equivalent” in adequately resolving the unsafe condition can be determined only on a case-by-case basis based on a complete understanding of the unsafe condition. We are not currently aware of any such parts. According to our policy, in order for operators to replace a part with one that is not specified in the AD, they must request an AMOC. This is necessary so that we can make a specific determination that an alternative part is or is not susceptible to the same unsafe condition.

The commenter's statement regarding a “conflict with existing law (FAR 21.303),” under which the FAA issues PMAs, appears to reflect a misunderstanding of the relationship between ADs and the certification procedural regulations of part 21 of the Federal Aviation Regulations (14 CFR part 21). Those regulations, including section 21.303 of the Federal Aviation Regulations (14 CFR 21.303), are intended to ensure that aeronautical products and parts are safe. But ADs are issued when, notwithstanding those procedures, we become aware of unsafe conditions in these products or parts. Therefore, an AD takes precedence over other “approvals” when we identify an unsafe condition, and mandating installation of a certain part number in an AD does not conflict with section § 21.303.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. We have not changed this final rule regarding this issue.

Request To Address Defective PMA Parts

The same commenter also requests that the proposed AD be revised to cover potentially defective PMA alternative parts, rather than just a single part number, so that those defective PMA parts also are subject to the proposed AD.

We concur with the commenter's general request that, if we know that an unsafe condition might exist in PMA parts, the AD should address those parts, as well as the original parts. The commenter's remarks are timely in that the Transport Airplane Directorate is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We have determined that an unsafe condition exists and that certain parts must be replaced to ensure continued safety, so we consider delaying this AD action inappropriate. We have not changed this final rule regarding this issue.

Comment Regarding Fleet Status

The manufacturer reports that the sole affected U.S. airplane, and 83 out of 108 airplanes worldwide, have been retrofitted with the new crashworthiness pins—mitigating the impact of this AD on the fleet.

Clarification of AMOC Paragraph

We have revised this action to clarify the appropriate procedure for notifying the principal inspector before using any approved AMOC on any airplane to which the AMOC applies.

Conclusion

We have carefully reviewed the available data, including the comments received, and determined that air safety and the public interest require adopting the AD with the change described previously. We have determined that this change will neither increase the economic burden on any operator nor increase the scope of the AD.

Costs of Compliance

As stated previously, the manufacturer advises that the sole U.S.-registered airplane is in compliance with the requirements of this AD. Therefore, this AD currently imposes no additional financial burden on any U.S. operator.

The following table provides the estimated costs that would be incurred by any unmodified airplane imported and placed on the U.S. Register in the future:

Estimated Costs
Action | Work hours | Average labor rate per hour | Parts | Cost per airplane
Pin replacement | 2 | $65 | $0 | $130

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-03 Airbus: Amendment 39-14530. Docket No. FAA-2005-22456; Directorate Identifier 2005-NM-128-AD.

Effective Date

(a) This AD becomes effective May 4, 2006.

Affected ADs

(b) None.

Applicability

(c) This AD applies to Airbus Model A321-111, -112, and -131 airplanes; and Model A321-211 and -231 airplanes; certificated in any category; including airplanes modified in production by Airbus Modification 24982, but excluding airplanes modified in production by Airbus Modification 30046.

Unsafe Condition

(d) This AD results from testing on the side-stay crashworthiness pins on the main landing gear (MLG), which revealed that, in the case of an emergency landing, the crashworthiness pins installed will not ensure a correct MLG collapse. We are issuing this AD to prevent a punctured fuel tank, which could cause damage to the airplane or injury to passengers.

Compliance

(e) You are responsible for having the actions required by this AD performed within the compliance times specified, unless the actions have already been done.

Pin Replacement

(f) Within 27 months after the effective date of this AD, replace any crashworthiness pin having part number 201525620 with part number 201525621, in accordance with the Accomplishment Instructions of Airbus Service Bulletin A320-32-1229, dated August 9, 2001.

Note 1: Airbus Service Bulletin A320-32-1229 refers to Messier-Dowty Service Bulletin 201-32-26, dated July 20, 2001, as an additional source of service information for replacing the crashworthiness pins.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) French airworthiness directive 2002-074(B) R1, dated March 20, 2002, also addresses the subject of this AD.

Material Incorporated by Reference

(i) You must use Airbus Service Bulletin A320-32-1229, dated August 9, 2001, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 17, 2006.
Ali Bahrami,
Manager, Transport Airplane Directorate, Aircraft Certification Service.

[FR Doc. 06-2959 Filed 3-29-06; 8:45 am]

BILLING CODE 4910-13-P